DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety regulations. The individual petition is described below, including the party seeking relief, the regulatory provisions involved, the nature of the relief being requested, and the petitioner's arguments in favor of relief.

Union Pacific Railroad Company

[Docket Number FRA-2004-17565]

Union Pacific Railroad Company (UP) seeks to obtain a waiver of certain provisions of the Safety Appliance Standards, 49 CFR part 231, and Power Brakes and Drawbars regulations, 49 CFR part 232, concerning the operation of RoadRailer equipment in Triple Crown Service over their railroad system. Specifically, the UP requests that it be allowed to operate RoadRailer trains from Chicago, IL to Minneapolis, MN and return. The UP requests FRA to grant approval to operate the Roadrailer equipment to include the following conditions:

1. This waiver applies only to the UPRR Roadrailer equipment operation.

2. Interchange will only be permitted with a railroad that has a comparable waiver to operate RoadRailer equipment.

3. RoadRailer equipment shall not be commingled with conventional railroad rolling equipment. RoadRailer units shall only be operated in trains consisting exclusively of RoadRailer units and locomotives.

4. RoadRailer trains shall be limited to a maximum trailing tonnage of 5,200 tons and will be further limited by RoadRailer total gross rail load, track grade and curvatures.

5. At no time shall the train length exceed the equivalent of 150 Mark V RoadRailer units.

6. An adapter unit (couplermate bogie) must be used between the hauling locomotive and the first RoadRailer unit in the train.

7. Each adapter unit (couplermate bogie) shall be equipped with a tool box containing appropriate instructions, job aids, and the necessary tools and equipment required to address problems that may be encountered in route by the train crew.

8. Trains will only be permitted to pick-up or set-out RoadRailer units at locations specifically designed to perform these functions with mechanical personnel that are trained and on duty for the purpose of assembly and disassembly of RoadRailer units unless a defective condition develops in route that would require a RoadRailer unit to be set-out of the train.

9. Hazardous materials are permitted to be hauled in RoadRailer units provided: (1) The particular commodities are limited to those listed in Table 2 of 49 CFR 172.504; (2) the shipment complies with other relevant provisions of the hazardous materials regulations; (3) placarding provisions of 49 CFR subpart F of part 172 shall apply during rail movements; and (4) cargo tanks, multi-unit tank car tanks, portable tanks and intermodal (1M) portable tanks handling hazardous materials are not permitted in this service.

10. Each RoadRailer-43 adapter unit (couplermate bogie) that does not have safety appliances that are compliant with current federal regulations (with the exception of the handbrake), must be stenciled on each side, in clearly legible letters not less than 6 inches high, “NO SAFETY APPLIANCES” and “DO NOT RIDE”, at a location that is visible to a person walking at track level beside the unit.

11. UPRR shall have instructions that prohibits anyone from riding RoadRailer equipment unless it is an adapter unit (couplermate bogie) specifically designed to be ridden and is not stenciled as required in condition #10. Strict enforcement of this rule is required.

12. New terminal facilities for RoadRailer equipment shall, to the extent feasible, be designed to limit the frequency and length of reverse movements. Reverse movements of RoadRailer equipment, with personnel riding couplermates equipped with compliant safety appliances, shall not exceed 10 miles per hour.

13. Whenever a shoving move of RoadRailer equipment is required, the movement shall be protected by either; an individual riding an adapter unit (couplermate bogie) specifically designed to be ridden, or by an individual walking with the movements and the speed of the move shall not exceed that of the individual walking.

14. Maximum speed of a RoadRailer train is 60 MPH, unless the RoadRailer units are equipped with AAR-1 B narrow flange profile (#40 taper) and maintained in that condition whereby the maximum speed shall be 70 MPH.

15. Piston travel at initial terminal shall be 1.25 to 3.5 inches.

16. The air brake shall be considered ineffective at 3-5/8 inches piston travel.

17. UPRR shall ensure that adequate records are maintained to demonstrate all personnel (including contractors) responsible for assembly, inspection, testing, maintenance and operation of RoadRailer equipment have been trained and qualified to perform those duties prior to undertaking them, including instruction in the provisions of this waiver pertinent to their duties. Training for railroad operating and mechanical personnel, who may encounter the equipment, shall specifically include training necessary to provide for their personal safety when working on or in proximity to the equipment. Supervisors shall also possess the knowledge and skills required of employees subject to their direct supervision. Effective coincident with compliance dates established for revisions to 49 CFR part 232, all personnel required to receive training subject to this condition shall have their qualifications for duties, related to RoadRailer equipment, documented in the same manner provided in that part.

18. UPRR shall ensure that adequate records are maintained to demonstrate the current qualification status of all personnel assigned to operate, inspect, test, and maintain RoadRailer equipment.

19. UPRR supervisors or their representatives shall exercise oversight or undertake contractual arrangements to ensure that all tasks and maintenance/repair practices are performed in accordance with the railroad's written procedures, applicable standards and recommended practices of the AAR, current AAR interchange rules, and all applicable Federal Regulatory requirements.

20. UPRR shall immediately report any accident, incident or injury involving this equipment to FRA's Office of Safety Assurance and Compliance in Washington, DC.

21. FRA will reserve the right to modify or rescind this waiver at any time upon receipt of information pertaining to the safety of rail operations or in the event of non-compliance with any of the conditions of this waiver.

22. UPRR requests that this waiver is effective for a five-year period from the date of approval of the requested waiver and FRA will reserve the right to extend the waiver if petition having been made and conditions warrant. UPRR will make a written request for an extension of the five-year period to the FRA's Office of Safety Assurance and compliance within six months of the granted expiration date.

Interested parties are invited to participate in these proceedings by submitting written views, data, or comments. FRA does not anticipate scheduling a public hearing in connection with these proceedings since the facts do not appear to warrant a hearing. If any interested party desires an opportunity for oral comment, they should notify FRA in writing, before the end of the comment period and specify the basis for their request.

All communications concerning these proceedings should identify the appropriate docket number (e.g., Waiver Petition docket Number FRA-2004-17565) and must be submitted in triplicate to the Docket Clerk, DOT Central Docket Management Facility, Room PL-401, Washington, DC 20590-0001. FRA will consider communications received within 30 days of the date of this notice before final action is taken. Comments received after that date will be considered as far as practicable. All written communications concerning these proceedings are available for examination during regular business hours (9 a.m.-5 p.m.) at DOT Central Docket Management Facility, Room PL-401 (Plaza Level), 400 Seventh Street, SW., Washington, DC All documents in the public docket are also available for inspection and copying on the Internet at the docket facility's Web site at http://dms.dot.gov.

Anyone is able to search th electronics form of all comments received into any of our dockets by name of the individual submitting the comment (or signing the comment, if submitted on behalf of an association, business, labor union, etc.). You may review DOT's Privacy Act Statement in the Federal Register published on April 11, 2000 (Volume 65, Number 70; Pages 19477-78). The Statement may also be found at http://dms.dot.gov.

Issued in Washington, DC on May 19, 2004.
Grady C. Cothen, Jr.,
Acting Associate Administrator for Safety.

[FR Doc. 04-11699 Filed 5-24-04; 8:45 am]

BILLING CODE 4910-06-P